DEPARTMENT OF COMMERCE

Bureau of Economic Analysis

Request for Nominations for the Bureau of Economic Analysis Advisory Committee

AGENCY: Bureau of Economic Analysis, U.S. Department of Commerce.

ACTION: Notice of request for nominations.

SUMMARY: The Director of the Bureau of Economic Analysis (BEA) requests nominations of individuals to the Bureau of Economic Analysis Advisory Committee (BEAAC). The Director will consider nominations received in response to this notice, as well as from other sources.

DATES: Please submit nominations by October 15, 2021. The Bureau of Economic Analysis will retain nominations received after this date for consideration should additional vacancies occur.

ADDRESSES: Please submit nominations by email to Gianna.Marrone@bea.gov (subject line “BEAAC Nominations”).

FOR FURTHER INFORMATION CONTACT: Gianna Marrone, Committee Management Official, Department of Commerce, Bureau of Economic Analysis, telephone 301-278-9282, email: Gianna.Marrone@bea.gov.

SUPPLEMENTARY INFORMATION: The Committee was established September 2, 1999. The Committee advises the Director of BEA on matters related to the development and improvement of BEA's national, regional, industry, and international economic accounts, with a focus on new and rapidly growing areas of the U.S. economy. The Committee provides recommendations from the perspectives of the economics profession, business, and government.

Objectives and Scope of BEAAC Activities

The Committee provides advice and comments on current and proposed BEA projects from the perspective of a broad range of highly knowledgeable users of economic statistics. This is the most effective means of obtaining valuable feedback on new data products and improvements to BEA's existing statistics. The credibility of BEA's economic statistics is enhanced by the endorsement of this prestigious committee.

Description of the BEAAC Member Duties

The Committee functions solely as an advisory committee to the Director of BEA. The Committee will function solely as an advisory body, in accordance with FACA, to advise BEA on topics selected by BEA in consultation with the Committee chairperson.

The Committee meets once or twice a year, budget permitting. Additional meetings may be held as deemed necessary by the Director or the Designated Federal Official. All Committee meetings are open to the public in accordance with the Federal Advisory Committee Act.

Members shall not reference or otherwise utilize their membership on the Committee in connection with public statements made in their personal capacities without a disclaimer that the views expressed are their own and do not represent the views of the Committee, BEA, or the Department of Commerce.

BEAAC Membership

The Committee will consist of approximately 15 members who are appointed by and serve at the discretion of the Director of BEA. The Committee chairperson will be selected by the Director of BEA. Members will be selected on a clear, standardized basis, in accordance with applicable Department of Commerce guidance. Committee members will be from business, academia, research, government, and international organizations, and they must be acknowledged experts in relevant fields, such as economics, statistics, and economic accounting.

The Committee aims to have a balanced representation among its members, considering such factors as geography, age, sex, race, ethnicity, technical expertise, community involvement, and knowledge of BEA programs and/or activities. Individuals will be selected based on their expertise in or representation of specific areas as needed by the BEA.

Committee members will be considered “special government employees” (SGEs) and, therefore, will be subject to the ethical standards applicable to SGEs.

Committee members will serve for a term up to three years. All members will be reevaluated at the conclusion of the term with the prospect of renewal for an additional term. Active attendance and participation in meetings and activities (e.g., conference calls and assignments) will be factors considered when determining term renewal or membership continuance. Members may be appointed for no more than three consecutive terms. Appointments may be for one, two, or three years to provide staggered terms.

Compensation for Members

Committee members shall serve without compensation, but may, upon request, be reimbursed travel expenses, including per diem, as authorized by 5 U.S.C. 5701 et seq. Because Committee members will not have access to classified information, no security clearances are required.

Solicitation of Nominations

The Committee is currently filling one or more positions on the BEAAC.

The Director will consider nominations of all qualified individuals to ensure that the Committee includes the areas of experience noted above. Individuals may nominate themselves or other individuals, and professional associations and organizations may nominate one or more qualified persons for membership on the Committee. Nominations shall state that the nominee is willing to serve as a member and carry out the duties of the Committee. A nomination package should include the following information for each nominee:

1. A letter of nomination stating the name, affiliation, and contact information for the nominee, the basis for the nomination (i.e., what specific attributes recommend him/her for service in this capacity), and the nominee's field(s) of experience;

2. A biographical sketch of the nominee and a copy of his/her curriculum vitae; and

3. The name, return address, email address, and daytime telephone number at which the nominator can be contacted.

The Department of Commerce is committed to equal opportunity in the workplace and seeks diverse BEAAC membership.

All nomination information should be provided in a single, complete package by midnight on October 15, 2021. Interested applicants should send their nomination package to Gianna Marrone, Committee Management Official, at Gianna.Marrone@bea.gov (subject line “BEAAC Nominations”). The Bureau of Economic Analysis will retain nominations received after this date for consideration should additional vacancies occur.

Dated: September 14, 2021.
Gianna Marrone,
Bureau of Economic Analysis, Assistant Designated Federal Official, Bureau of Economic Analysis Advisory Committee.

[FR Doc. 2021-20139 Filed 9-16-21; 8:45 am]

BILLING CODE 3510-06-P